EXPORT-IMPORT BANK OF THE UNITED STATES

Sunshine Act Meetings; Notice of an Open Meeting of the Board of Directors of the Export-Import Bank of the United States.

TIME AND DATE: Thursday, April 15, 2020 at 9:30 a.m.

PLACE: The meeting will be held via Teleconference.

STATUS: The meeting will be open to public observation by teleconference.

MATTERS TO BE CONSIDERED:

Item No. 1—Small Business COVID-19 (Coronavirus) Temporary Relief Measures Update

Item No. 2—Transportation Extension of COVID-19 Relief Measures:

(a) Bridge-Backstop Financing Program

(b) Pre-Delivery—Pre-Export Financing Program

CONTACT PERSON FOR MORE INFORMATION:

For further information, contact Joyce Stone, Office of the General Counsel, 811 Vermont Avenue NW, Washington, DC 20571 (joyce.stone@exim.gov).

Members of the public who wish to attend the meeting may register for the meeting at https://attendee.gotowebinar.com/register/6726874125408808459.

Joyce Stone,
Assistant Corporate Secretary.

[FR Doc. 2021-07063 Filed 4-1-21; 4:15 pm]

BILLING CODE 6690-01-P